DEPARTMENT OF DEFENSE

Department of the Army

[Docket ID: USA-2008-0053]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on September 11, 2008 unless comments are received which result in a contrary determination.

ADDRESSES: Department of the Army, Freedom of Information/ Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: August 1, 2008.
Patricia L. Toppings,
OSD Federal Register Liaison Officer, Department of Defense.

A0350-1 DAMI

System name:

INSCOM, Personal Qualification and Training Profile (February 22, 1993, 58 FR 10002).

Changes:

* * * * *

Authority for maintenance of the system:

Delete entry and replace with “10 U.S.C. 3013, Secretary of the Army; Army Regulation 350-1, Army Training and Leadership Development; and E.O. 9397 (SSN).”

* * * * *

Storage:

Delete entry and replace with “Paper records in file folders and on electronic storage media.”

* * * * *

Notification procedure:

Delete entry and replace with “Individuals seeking to determine whether information about themselves is contained in this system should address written inquiries to the United States Army Intelligence and Security Command, Freedom of Information/Privacy Office, 4552 Pike Road, Fort Meade, MD 20755-5995.

Individuals must furnish their full name, any alias, Social Security Number (SSN), date and place of birth, current address, telephone number, and a notarized signature.”

Record access procedures:

Delete entry and replace with “Individuals seeking access to information about themselves contained in this system should address written inquiries to the United States Army Intelligence and Security Command, Freedom of Information/Privacy Office, 4552 Pike Road, Fort Meade, MD 20755-5995.

Individuals must furnish their full name, any alias, Social Security Number (SSN), date and place of birth, current address, telephone number, and a notarized signature.”

Contesting record procedures:

Delete and replace entry with “The Army's rules for accessing records, and for contesting contents and appealing initial agency determinations are contained in Army Regulation 340-21; 32 CFR part 505; or may be obtained from the system manager.”

* * * * *

A0350-1 DAMI

System name:

INSCOM, Personal Qualification and Training Profile.

System location:

United States Army Intelligence and Security Command, Fort Belvoir, VA 22060-5370.

Categories of individuals covered by the system:

All Army military personnel assigned to Headquarters, United States Army Intelligence and Security Command and its attached activities.

Categories of records in the system:

File contains individual's name, Social Security Number, pay grade, primary military occupational specialty (PMOS)/Specialty skill identifier (SSI), date of last evaluation report, sex, date of birth, organization/unit processing code, duty section, height, weight, weight control program status, physical profile factors (PULHES), date of last physical examination, examination, profile status, expiration date of temporary profile, over 40 medical clearance status, date last Human Immunodeficiency Virus (HIV) test, date last Army physical fitness test (APFT), APFT results, APFT scores, date last skill qualification test (SQT), SQT score, PLDC attendance, CAS3 attendance, date last weapons qualification, weapons qualification status, caliber of weapon in which qualified, date last subversion and espionage directed against defense in which qualified, date last subversion and espionage directed against defense activities (SAEDA) training, date of last operations security training, and similar personnel, medical and training related data pertaining to assignments.

Authority for maintenance of the system:

10 U.S.C. 3013, Secretary of the Army; Army Regulation 350-1, Army Training and Leadership Development; and E.O. 9397 (SSN).

Purpose(s):

To maintain a consolidated file of specified personnel, medical and training related data pertaining to all Army military personnel assigned to Headquarters United States Army Intelligence and Security Command and their supporting tenant activities. A consolidated records system of selected data is required to more efficiently and effectively provide management and training support to assigned personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, assessing, retaining and disposing of records in the system:

Storage:

Paper records in file folders and on electronic storage media.

Retrievability:

By individual's name, Social Security Number or other individually identifying characteristics.

Safeguards:

Military police are used as security personnel. A stringent employee identification badge and visitor registration/escort system is in effect. The computer terminal and hard copy records are maintained in areas accessible only to authorized personnel who have a need for the information in the performance of their official duties. The computerized records system is accessed and updated by the custodian of the records system and by a limited number of other personnel responsible for servicing the records in the performance of their official duties. Access to the computer file requires utilization of a password. Once in the system, access is restricted to only the user's applicable portions of the system. One unit cannot access another unit's records. All hard copy products bear Privacy Act labels.

Retention and disposal:

All data pertaining to an individual is deleted from the computer file during the individual's out-processing. Paper records are retained for 2 years and are destroyed as unclassified For Official Use Only waste.

System manager(s) and address:

Commander, United States Army Intelligence and Security Command, Fort Belvoir, VA 22060-5370.

Notification procedure:

Individuals seeking to determine whether information about themselves is contained in this system should address written inquiries to the United States Army Intelligence and Security Command, Freedom of Information/Privacy Office, 4552 Pike Road, Fort Meade, MD 20755-5995.

Individuals must furnish their full name, any alias, Social Security Number (SSN), date and place of birth, current address, telephone number, and a notarized signature.

Record access procedures:

Individuals seeking access to information about themselves contained in this system should address written inquiries to the United States Army Intelligence and Security Command, Freedom of Information/Privacy Office, 4552 Pike Road, Fort Meade, MD 20755-5995.

Individuals must furnish their full name, any alias, Social Security Number (SSN), date and place of birth, current address, telephone number, and a notarized signature.

Contesting record procedures:

The Army's rules for accessing records, and for contesting contents and appealing initial agency determinations are contained in Army Regulation 340-21; 32 CFR part 505; or may be obtained from the system manager.

Record source categories:

From the individual and from the official military personnel records, official health records and local training records during in-processing. Data for updates to records in the system are obtained from the individual and from source documents utilized to update the individual's official records.

Exemptions claimed for the system:

None.

[FR Doc. E8-18591 Filed 8-11-08; 8:45 am]

BILLING CODE 5001-06-P